ENVIRONMENTAL PROTECTION AGENCY

[ER-FRL-9047-8]

Environmental Impact Statements; Notice of Availability

Responsible Agency: Office of Federal Activities, General Information (202) 564-5632 or https://www.epa.gov/nepa/.

Weekly receipt of Environmental Impact Statements

Filed 10/28/2019 10 a.m. ET Through 11/04/2019 10 a.m. ET

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20190268, Final Supplement, CHSRA, CA, Fresno to Bakersfield Section: Locally Generated Alternative Combined Supplemental Record of Decision and Final Supplemental Environmental Impact Statement, Contact: Dan McKell 916-330-5668

Pursuant to 23 U.S.C. 139(n)(2), CHSRA has issued a combined FEIS and ROD. Therefore, the 30-day wait/review period under NEPA does not apply to this action.

EIS No. 20190269, Final, USFS, BLM, ID, Proposed Dairy Syncline Mine and Reclamation Plan, Review Period Ends: 12/09/2019, Contact: Bill Stout 208-478-6367

Dated: November 4, 2019.
Robert Tomiak,
Director, Office of Federal Activities.

[FR Doc. 2019-24351 Filed 11-7-19; 8:45 am]

BILLING CODE 6560-50-P